DEPARTMENT OF HEALTH AND HUMAN SERVICES

Food and Drug Administration

Request for Interest in Participating in the Selection of the Nonvoting Members of Industry Interests on Public Advisory Committees; Nonprescription Drugs Advisory Committee

AGENCY: Food and Drug Administration, HHS.

ACTION: Notice.

SUMMARY: The Food and Drug Administration (FDA) is filling the position of nonvoting industry representative on the Nonprescription Drugs Advisory Committee. FDA requests that any industry organization, that is interested in participating in the selection of an appropriate nonvoting member of the Nonprescription Drugs Advisory Committee to represent industry, send a letter stating that interest to the FDA employee designated below within 30 days of the date of this notice. In addition, if individuals or organizations would like to nominate individuals to serve as the nonvoting industry representative, they may do so.

DATES: Letters of interest and nominations should be received on or before July 23, 2001.

ADDRESSES: All nominations for membership should be submitted to Sandra Titus (address below).

FOR FURTHER INFORMATION CONTACT: Sandra Titus, Advisors and Consultants Staff (HFD-21), Center for Drug Evaluation and Research, Food and Drug Administration, 5600 Fishers Lane, Rockville, MD 20857, 301-827-7001, e-mail: tituss@cder.fda.gov.

SUPPLEMENTARY INFORMATION:

I. Function

The function of the committee is to review and evaluate available data concerning the safety and effectiveness of over-the-counter (nonprescription) human drug products for use in the treatment of a broad spectrum of human symptoms and diseases.

II. Selection Procedure

Any industry organization interested in participating in the selection of an appropriate nonvoting member of the Nonprescription Drugs Advisory Committee to represent industry interests should send a letter stating that interest to the FDA employee designated in the notice within 30 days of the date of this notice. After 30 days, a letter will be sent to each organization that has expressed an interest, attaching a complete list of all such organizations, and stating that it is their responsibility to consult with each other in selecting a single nonvoting member to represent industry interests for that committee within 60 days after receipt of the letter. If no individual is selected within 60 days, the agency will select the nonvoting member representing industry interests.

Individuals and organizations may nominate individuals to serve as the nonvoting industry representative. To do so, a current curriculum vitae should be sent to the contact person. FDA will forward any nominations to the organizations expressing interest in participating in the selection process. The organizations are under no obligation to select any of these nominees but may do so if they wish.

This notice is issued under the Federal Advisory Committee Act (5 U.S.C. app. 2) and 21 CFR part 14, relating to advisory committees.

Dated: June 14, 2001.
Linda A. Suydam,
Senior Associate Commissioner.

[FR Doc. 01-15666 Filed 6-21-01; 8:45 am]

BILLING CODE 4160-01-S